DEPARTMENT OF COMMERCE

International Trade Administration

[A-570-937]

Citric Acid and Certain Citrate Salts From the People's Republic of China: Preliminary Results of Antidumping Duty Administrative Review; 2013-2014

AGENCY: Enforcement and Compliance, International Trade Administration, Department of Commerce.

SUMMARY: The Department of Commerce (“the Department”) is conducting the fifth administrative review (“AR”) of the antidumping duty order on citric acid and certain citrate salts (“citric acid”) from the People's Republic of China (“PRC”). The review covers three companies, RZBC Co., Ltd., RZBC Import & Export Co., Ltd., and RZBC (Juxian) Co., Ltd. (collectively, “RZBC”), Laiwu Taihe Biochemistry Co., Ltd. (“Taihe”), and Yixing Union Biochemical Ltd. (“Yixing Union”). The period of review (“POR”) for the AR is May 1, 2013, through April 30, 2014. We preliminarily determine that Yixing Union did not have any reviewable transactions during the POR. For RZBC and Taihe, because of outstanding issues pertaining to the selection of the surrogate country, we have preliminarily assigned to each its cash deposit rate currently in effect.

DATES: Effective Date: June 8, 2015.

FOR FURTHER INFORMATION CONTACT: Krisha Hill or Maisha Cryor, AD/CVD Operations, Office IV, Enforcement and Compliance, International Trade Administration, Department of Commerce, 14th Street and Constitution Avenue NW., Washington, DC 20230; telephone: (202) 482-4037 or (202) 482-5831, respectively.

SUPPLEMENTARY INFORMATION:

Scope of the Order

The merchandise covered by this order is citric acid and certain citrate salts from the PRC. The product is currently classified under subheadings 2918.14.0000, 2918.15.1000, 2918.15.5000, and 3824.90.9290 of the Harmonized Tariff System of the United States (HTSUS). Although the HTSUS subheadings are provided for convenience and customs purposes, the written description of merchandise subject to the scope is dispositive. For a full description of the scope of the order, see Preliminary Decision Memorandum.¹

¹ See “Decision Memorandum for Preliminary Results of Antidumping Duty Administrative Review: Citric Acid and Certain Citrate Salts from the People's Republic of China” from Christian Marsh, Deputy Assistant Secretary, Antidumping and Countervailing Duty Operations, to Ronald K. Lorentzen, Acting Assistant Secretary for Enforcement and Compliance, issued concurrently with this notice (“Preliminary Decision Memorandum”), for a complete description of the Scope of the Order.

Preliminary Determination of No Shipments

Yixing Union reported it made no shipments of subject merchandise to the United States during the POR.² On November 20, 2014, the Department placed information from a U.S. Customs and Border Protection (“CBP”) data query related to potential POR entries of subject merchandise from Yixing Union.³ Based on Yixing Union's no shipments certification, and because CBP had no findings of reviewable transactions, we preliminarily determine that Yixing Union did not have any reviewable transactions during the POR.

² See Letter from Yixing Union to the Department, regarding “Yixing-Union Biochemical Co., Ltd. Statement of No Shipments during the POR: Antidumping Administrative Review of Citric Acid and Certain Citrate Salts from the People's Republic of China,” dated July 8, 2014.

³ See Memorandum to the File Regarding “Release of U.S. Customs and Border Protection Information Relating to No Shipment Claims Made in the 2013-2014 Administrative Review of Citric Acid and Certain Citrate Salts from the People's Republic of China,” dated November 20, 2014.

In addition, consistent with our practice, the Department is not rescinding this review, in part, but intends to complete the review with respect to Yixing Union for which it has preliminarily found no shipments and issue appropriate instructions to CBP based on the final results of the review.

Methodology

The Department is conducting this review in accordance with section 751(a)(1)(A) of the Tariff Act of 1930, as amended (“the Act”). The Department normally calculates export prices in accordance with section 772 of the Act, and because the PRC is a non-market economy within the meaning of section 771(18) of the Act, the Department normally calculates normal value in accordance with section 773(c) of the Act. However, we are unable to determine normal value in accordance with section 773(c) for these Preliminary Results because parties did not submit appropriate surrogate value data in accordance with our normal requirements, and we did not have sufficient time to obtain and analyze additional data prior to the Preliminary Results. Accordingly, we are applying neutral facts available under section 776(a) of the Act and preliminarily assigning RZBC and Taihe their current cash deposit rates. As indicated below and in the Preliminary Decision Memorandum, we intend to seek additional data following the Preliminary Results and intend to select an appropriate surrogate country based on the results of further inquiry and analysis.

For a full description of the methodology underlying our conclusions, see the Preliminary Decision Memorandum, which is hereby adopted by this notice. The Preliminary Decision Memorandum is a public document and is on file electronically via Enforcement and Compliance's Antidumping and Countervailing Duty Centralized Electronic Service System (“ACCESS”). ACCESS is available to registered users at http://access.trade.gov and in the Central Records Unit, Room 7046 of the main Department of Commerce building. In addition, a complete version of the Preliminary Decision Memorandum can be accessed directly at http://www.trade.gov/enforcement/. The signed Preliminary Decision Memorandum and the electronic versions of the Preliminary Decision Memorandum are identical in content. A list of the topics discussed in the Preliminary Decision Memorandum, is attached as the Appendix to this notice.

Preliminary Results of Review

The following weighted-average dumping margins exist for the period May 1, 2013, through April 30, 2014.

Exporter | Weighted- average dumping margin (percent) ⁴
RZBC Imp. & Exp. Co., Ltd. | 0.00
Laiwu Taihe Biochemistry Co., Ltd | 3.08

Public Comment

We request that interested parties submit surrogate country and surrogate value data from a country or countries identified in the Surrogate Country Memo ⁵ by close of business on June 15, 2015. Rebuttal comments and rebuttal surrogate value data will be due by close of business on June 22, 2015. In the event that no interested party provides surrogate country and surrogate value data within this time period, then the Department will conduct its own research in an effort to obtain such data. We intend to issue post-preliminary results after we receive and analyze the surrogate country and surrogate value data submitted after the preliminary results. We will provide interested parties an opportunity to comment on such post-preliminary results.

⁴ See Citric Acid and Certain Citrate Salts From the People's Republic of China: Final Results of Antidumping Duty Administrative Review; 2012-2013, 79 FR 65182 (November 3, 2014) (Taihe); see also Citric Acid and Certain Citrate Salts From the People's Republic of China; Final Results of Antidumping Duty Administrative Review; 2011-2012, 79 FR 101 (January 2, 2014) (RZBC).

⁵ See Letter from the Department to All Interested Parties, regarding “2013-2014 Administrative Review of the Antidumping Duty Order on Citric Acid and Certain Citrate Salts from the People's Republic of China: Request for Surrogate Country and Surrogate Value Comments and Information,” dated January 9, 2015 (“Surrogate Country Memo”).

All submissions, with limited exceptions, must be filed electronically using ACCESS. An electronically filed document must be received successfully in its entirety by 5 p.m. Eastern Time (“ET”) on the due date. Documents excepted from the electronic submission requirements must be filed manually (i.e., in paper form) with the APO/Dockets Unit in Room 18022 and stamped with the date and time of receipt by 5 p.m. ET on the due date.⁶

⁶ See Antidumping and Countervailing Duty Proceedings: Electronic Filing Procedures; Administrative Protective Order Procedures, 76 FR 39263 (July 6, 2011).

The Department will issue the final results of this AR, which will include the results of its analysis of issues raised in any briefs received, within 120 days of publication of these preliminary results, pursuant to section 751(a)(3)(A) of the Act, unless that time is extended.

Assessment Rates

Upon issuing the final results of this review, the Department will determine, and CBP shall assess, antidumping duties on all appropriate entries.⁷ The Department intends to issue assessment instructions to CBP 15 days after the publication date of the final results of this review.

⁷ See 19 CFR 351.212(b).

For each individually examined respondent in this review whose weighted-average dumping margin is above de minimis (i.e., 0.5 percent) in the final results of this review, the Department will calculate importer-specific assessment rates on the basis of the ratio of the total amount of dumping calculated for the importer's examined sales to the total entered value of those sales, in accordance with 19 CFR 351.212(b)(1).⁸ Where an importer- (or customer-) specific ad valorem rate is greater than de minimis, the Department will instruct CBP to collect the appropriate duties at the time of liquidation.⁹ Where either a respondent's weighted average dumping margin is zero or de minimis, or an importer- (or customer-) specific ad valorem dumping margin is zero or de minimis, the Department will instruct CBP to liquidate appropriate entries without regard to antidumping duties.¹⁰

⁸ In these preliminary results, the Department applied the assessment rate calculation method adopted in Antidumping Proceedings: Calculation of the Weighted-Average Dumping Margin and Assessment Rate in Certain Antidumping Proceedings: Final Modification, 77 FR 8101 (February 14, 2012).

⁹ See 19 CFR 351.212(b)(1).

¹⁰ See 19 CFR 351.212(b)(1).

For entries that were not reported in the U.S. sales database submitted by an exporter individually examined during this review, the Department will instruct CBP to liquidate such entries at the PRC-wide rate. Additionally, if the Department determines that an exporter under review had no shipments of the subject merchandise, any suspended entries that entered under that exporter's case number will be liquidated at the PRC-wide rate.

Cash Deposit Requirements

The following cash deposit requirements will be effective upon publication of the final results of this review for shipments of the subject merchandise from the PRC entered, or withdrawn from warehouse, for consumption on or after the publication date, as provided by section 751(a)(2)(C) of the Act: (1) For the companies listed above that have a separate rate, the cash deposit rate will be that rate established in the final results of these reviews (except, if the rate is zero or de minimis, then a zero cash deposit will be required); (2) for previously investigated or reviewed PRC and non-PRC exporters listed above that received a separate rate in a prior segment of this proceeding, the cash deposit rate will continue to be the existing exporter-specific rate; (3) for all PRC exporters of subject merchandise that have not been found to be entitled to a separate rate, the cash deposit rate will be the rate for the PRC-wide entity; and (4) for all non-PRC exporters of subject merchandise which have not received their own rate, the cash deposit rate will be the rate applicable to the PRC exporter that supplied that non-PRC exporter.

These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: June 1, 2015.
Ronald K. Lorentzen,
Acting Assistant Secretary for Enforcement and Compliance.

Appendix

List of Topics Discussed in the Preliminary Decision Memorandum

Summary

Background

Scope of the Order

Discussion of the Methodology

Preliminary Determination of No Shipments

Non-Market Economy Country Status

Separate Rates

Surrogate Country

Use of Facts Otherwise Available

Conclusion

[FR Doc. 2015-13953 Filed 6-5-15; 8:45 am]

BILLING CODE 3510-DS-P